DEPARTMENT OF THE INTERIOR

Bureau of Land Management

[CA-310-0777-XX]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northeast California Resource Advisory Council will meet as indicated below.

DATES: The meeting will be held Thursday and Friday, Sept. 21 and 22, 2006, in the Conference Room of the Bureau of Land Management Surprise Field Office, 602 Cressler St., Cedarville, Calif. On Sept. 21, the members will convene at 10 a.m. and depart on a field trip to public lands managed by the Surprise Field Office. On Sept. 22, the meeting begins at 8 a.m. Members of the public are welcome to attend the tour and meeting. Field tour participants must provide their own transportation and lunch. Time for public comment is reserved for 11 a.m. on Friday, Sept. 22.

FOR FURTHER INFORMATION CONTACT: Tim Burke, BLM Alturas Field Office Manager, (530) 233-4666; or BLM Public Affairs Officer Joseph J. Fontana, (530) 252-5332.

SUPPLEMENTARY INFORMATION: The 15-member council advises the Secretary of the Interior, through the BLM, on a variety of planning and management issues associated with public land management in Northeast California and the northwest corner of Nevada. At this meeting, agenda topics will include a report on public comments and responses to draft resource management plans for the Alturas, Eagle Lake and Surprise field offices. Members will also discuss a status report on development of a management plan and environmental impact statement for sagebrush-steppe ecosystems, an update on a rail banking proposal for the abandoned Modoc Rail Line, information on a proposal to develop a wildlife water source in a wilderness area and formation of a Recreation Resource Advisory Council in California. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: August 11, 2006.
Joseph J. Fontana,
Public Affairs Officer.

[FR Doc. E6-13817 Filed 8-21-06; 8:45 am]

BILLING CODE 4310-40-P